DEPARTMENT OF THE INTERIOR

National Park Service

[N6848; NPS-WASO-NAGPRA-NPS0041754; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects, sacred objects, and/or objects of cultural patrimony and that have a cultural affiliation with the Indian Tribes or Native Hawaiian organizations in this notice.

DATES: Repatriation of the cultural items in this notice may occur on or after February 12, 2026.

ADDRESSES: Send additional, written requests for repatriation of the cultural items in this notice to Kirsten Twork, Sonoma State University, 1801 East Cotati Avenue, Rohnert Park, CA 94928, email tworkk@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 3,121 lots of cultural items have been requested for repatriation. Of the cultural items being requested 581 lots are unassociated funerary objects and 2,540 lots are sacred objects.

The 2,522 lots of sacred objects were removed from CA-SON-960 near Forestville, California in Sonoma County. Items were removed from the site during two different time periods. The first removal occurred in 1977 during a field survey. The second occurred in 1980 as part of a field archaeology class by the Santa Rosa Junior College. In addition to teaching students archaeology field work, the purpose of the work done was to evaluate the nature of changes to the site matrix as a result of discing and maintenance of the apple orchard located within the site boundaries. The items include flaked stone debitage, flaked stone tools, charcoal, petrified wood, unmodified faunal bone, historic material, and unmodified shell. The cultural items have been at Sonoma State University since their removal from the site.

The 580 unassociated funerary objects were donated to the university by a “Mrs. Johnson”. The cultural items were removed from their location by Hector Lee between Occidental and Sebastopol, California in Sonoma County. No additional information was located on why the items were brought to the university. The cultural items include ground stone tools, modified stone, and modified obsidian and have been at Sonoma State University since their donation in 1972.

One lot of unassociated funerary objects was removed from CA-SON-709 located near Forestville California in Sonoma County. No additional information was located on why the items were removed from the site. The lot of items are ground stone tools and have been at Sonoma State University since 1973.

One lot of sacred objects was removed during the Coleman Valley survey located near Occidental California in Sonoma County. No additional information was located on why the items were removed from the site. The cultural items are stone debitage and have been at Sonoma State University since 1976.

One lot of sacred objects was removed from CA-SON-1125 during the Cook property survey located near Forestville, California in Sonoma County. No additional information was located on why the items were removed from the site. The cultural items are worked obsidian and have been at Sonoma State University since 1978.

The 16 lots of sacred objects were removed from CA-SON-1260, CA-SON-1261, and CA-SON-1262 in Occidental, California in Sonoma County. The items include flaked stone tools. The cultural items have been at Sonoma State University since 1980.

In the case of missing cultural items, any additional items when located will also be repatriated from the collections discussed above. Based on records concerning the cultural items and the institution in which they are housed, there is no evidence of the items being treated with hazardous substances.

Determinations

The Sonoma State University has determined that:

• The 581 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 2,540 lots of sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 12, 2026. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: January 5, 2026.
Melanie O'Brien,
Manager, National NAGPRA Program.

[FR Doc. 2026-00466 Filed 1-12-26; 8:45 am]

BILLING CODE 4312-52-P